DEPARTMENT OF TRANSPORTATION

Federal Aviation Administration

14 CFR Part 71

[Docket No. FAA-2024-2591; Airspace Docket No. 24-AGL-26]

RIN 2120-AA66

Amendment of VOR Federal Airways V-38, V-133, and V-144, and Revocation of VOR Federal Airway V-214 in the Vicinity of Zanesville, OH

AGENCY: Federal Aviation Administration (FAA), DOT.

ACTION: Final rule.

SUMMARY: This action amends Very High Frequency Omnidirectional Range (VOR) Federal Airways V-38, V-133, and V-144; and revokes VOR Federal Airway V-214. The FAA is taking this action due to the planned decommissioning of the VOR portion of the Zanesville, OH (ZZV), VOR/Distance Measuring Equipment (VOR/DME) navigational aid (NAVAID). The Zanesville VOR is being decommissioned in support of the FAA's VOR Minimum Operational Network (MON) program.

DATES: Effective date 0901 UTC, October 2, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) as necessary to preserve the safe and efficient flow of air traffic.

History

The FAA published an NPRM for Docket No. FAA-2024-2591 in the Federal Register (89 FR 97567; December 9, 2024), proposing to amend VOR Federal Airways V-38, V-133, and V-144, and to revoke VOR Federal Airway V-214 due to the planned decommissioning of the VOR portion of the Zanesville, OH, VOR/DME NAVAID. Interested parties were invited to participate in this rulemaking effort by submitting written comments on the proposal. No comments were received.

Differences From the NPRM

Subsequent to publication of the NPRM, the FAA separately published a final rule for Docket No. FAA-2024-2512 in the Federal Register (90 FR 21408; May 20, 2025), amending VOR Federal Airway V-38 by replacing the Cape Charles, VA, VOR/Tactical Air Navigation (VORTAC) route point with a new route point located at the intersection of the Harcum, VA, VORTAC 100° and the Norfolk, VA, VORTAC 026° radials (LNSKY Fix). That airway amendment is effective August 7, 2025. This final rule incorporates the amendments effectuated by the separate rulemaking identified above, and makes additional amendments to V-38 on top of the amendments previously made. The FAA finds that good cause exists not to recirculate the NPRM for public notice and comment because the resulting airspace will not change from what was originally proposed.

Incorporation by Reference

VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 by amending VOR Federal Airways V-38, V-133, and V-144, and revoking VOR Federal Airway V-214 due to the planned decommissioning of the VOR portion of the Zanesville, OH, VOR/DME NAVAID. The airway changes are described below.

V-38: Prior to this final rule, as amended by FAA Docket No. FAA-2024-2512 (90 FR 21408; May 20, 2025), V-38 extended between the Moline, IL, VOR/DME and the intersection of the Fort Wayne, IN, VORTAC 091° and Rosewood, OH, VORTAC 334° radials (WINES Fix); and between the Appleton, OH, VORTAC and the intersection of the Harcum, VA, VORTAC 100° and the Norfolk, VA, VORTAC 026° radials (LNSKY Fix). The airway segment between the Appleton VORTAC and the Parkersburg, WV, VOR/DME is removed. As amended, the route is changed to now extend between the Moline VOR/DME and the intersection of the Fort Wayne VORTAC 091° and Rosewood VORTAC 334° radials (WINES Fix), and between the Parkersburg VOR/DME and the intersection of the Harcum, VA, VORTAC 100° and the Norfolk, VA, VORTAC 026° radials (LNSKY Fix).

V-133: Prior to this final rule, V-133 extended between the intersection of the Charlotte, NC, VOR/DME 305° and Barretts Mountain, NC, VOR/DME 197° radials (LINCO Fix) and the Zanesville, OH, VOR/DME; between the Saginaw, MI, VOR/DME and the Houghton, MI, VOR/DME; and between the International Falls, MN, VOR/DME and the Red Lake, Ontario (ON), Canada, VOR. The airspace within Canada is excluded. The airway segment between the Charleston, WV, VOR/DME and the Zanesville VOR/DME is removed. As amended, the airway is changed to now extend between the intersection of the Charlotte VOR/DME 305° and Barretts Mountain VOR/DME 197° radials (LINCO Fix) and the Charleston VOR/DME, between the Saginaw VOR/DME and the Houghton VOR/DME, and between the International Falls VOR/DME and the Red Lake, ON, Canada, VOR. The airspace within Canada continues to be excluded.

V-144: Prior to this final rule, V-144 extended between the Fort Wayne, IN, VORTAC and the Linden, VA, VORTAC. The airway segment between the Appleton, OH, VORTAC and the Morgantown, WV, VOR/DME is removed. As amended, the airway is changed to now extend between the Fort Wayne VORTAC and the Appleton VORTAC, and between the Morgantown VOR/DME and the Linden VORTAC.

V-214: Prior to this final rule, V-214 extended between the intersection of the Appleton, OH, VORTAC 236° and Zanesville, OH, VOR/DME 274° radials (GLOOM Fix) and the Bellaire, OH, VOR/DME. The airway is removed in its entirety.

All NAVAID radials listed in the airway descriptions in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending VOR Federal Airways V-38, V-133, and V-144, and revoking VOR Federal Airway V-214 qualifies for categorical exclusion under the National Environmental Policy Act (42 U.S.C. 4321, et seq.) and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points); and paragraph B-2.5(i), which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with the FAA's NEPA implementation policy and procedures regarding Extraordinary Circumstances, the FAA has reviewed this action for factors and circumstances in which a normally categorically excluded action may have a significant environmental impact requiring further analysis. The FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-38 [Amended]

From Moline, IL; INT Moline 082° and Peotone, IL, 281° radials; Peotone; Fort Wayne, IN; to INT Fort Wayne 091° and Rosewood, OH, 334° radials. From Parkersburg, WV; Elkins, WV; Gordonsville, VA; Richmond, VA; Harcum, VA; to INT Harcum 100° and Norfolk, VA, 026° radials.

* * * * *

V-133 [Amended]

From INT Charlotte, NC, 305° and Barretts Mountain, NC, 197° radials; Barretts Mountain; to Charleston, WV. From Saginaw, MI; Traverse City, MI; Escanaba, MI; Sawyer, MI; to Houghton, MI. From International Falls, MN; to Red Lake, ON, Canada. The airspace within Canada is excluded.

* * * * *

V-144 [Amended]

From Fort Wayne, IN; to Appleton, OH. From Morgantown, WV; Kessel, WV; to Linden, VA.

* * * * *

V-214 [Removed]

* * * * *

Issued in Washington, DC, on July 22, 2025.
Brian Eric Konie,
Manager (A), Rules and Regulations Group.

[FR Doc. 2025-14040 Filed 7-24-25; 8:45 am]

BILLING CODE 4910-13-P